NATIONAL AERONAUTICS AND SPACE ADMINISTRATION

[Notice: 15-042]

National Space-Based Positioning, Navigation, and Timing (PNT) Advisory Board; Meeting

AGENCY: National Aeronautics and Space Administration (NASA).

ACTION: Notice of meeting.

SUMMARY: In accordance with the Federal Advisory Committee Act, Public Law 92-463, as amended, and the 2004 U.S. Space-Based Positioning, Navigation, and Timing (PNT) Policy, the National Aeronautics and Space Administration (NASA) announces a meeting of the National Space-Based Positioning, Navigation, and Timing (PNT) Advisory Board.

DATES: Thursday, June 11, 2015, 10:00 a.m.-6:00 p.m.; and Friday, June 12, 2015, 10:00 a.m.-1:00 p.m., Local Time.

ADDRESSES: Marriott Hotel, 80 Compromise St., Annapolis, MD 21401.

FOR FURTHER INFORMATION CONTACT: Mr. James J. Miller, Human Exploration and Operations Mission Directorate, NASA Headquarters, Washington, DC 20546, (202) 358-4417, fax (202) 358-4297, or jj.miller@nasa.gov.

SUPPLEMENTARY INFORMATION: The meeting will be open to the public up to the seating capacity of the room. Visitors will be requested to sign a visitor's register.

The agenda for the meeting includes the following topics:

• Examine emerging trends and requirements for PNT services in U.S. and international arenas through PNT Advisory Board technical assessments.

• Receive update on U.S. PNT Policy and GPS modernization.

• Prioritize current and planned GPS capabilities and services while assessing future PNT architecture alternatives with a focus on affordability.

• Examine methods in which to Protect, Toughen, and Augment (PTA) access to GPS/Global Navigation Satellite Systems (GNSS) services in key domains for multiple user sectors.

• Assess economic impacts of GPS on the United States and in select international regions, with a consideration towards effects of potential PNT service disruptions if radio spectrum interference is introduced.

• Explore opportunities for enhancing the interoperability of GPS with other emerging international GNSS.

• Review the potential benefits, perceived vulnerabilities, and any proposed regulatory requirements to accessing foreign Radio Navigation Satellite Service (RNSS) signals in the United States and subsequent impacts on multi-GNSS receiver markets.

It is imperative that the meeting be held on these dates to accommodate the scheduling priorities of the key participants.

Patricia D. Rausch,
Advisory Committee Management Officer, National Aeronautics and Space Administration.

[FR Doc. 2015-12669 Filed 5-26-15; 8:45 am]

BILLING CODE 7510-13-P